DEPARTMENT OF TRANSPORTATION

Federal Aviation Administration

[Docket No. FAA-2002-13373]

Integrated Modular Avionics (IMA) Hardware Elements

AGENCY: Federal Aviation Administration, DOT.

ACTION: Notice of availability for public comment.

SUMMARY: This notice announces the availability of and requests comments on a proposed Advisory Circular (AC) about integrated modular avionics hardware elements (IMA). The proposed AC establishes an acceptable means to obtain Federal Aviation Administration's (FAA) airworthiness approval to install an Integrated Modular Avionics (IMA) System that uses hardware elements authorized under Technical Standard Order (TSO)-C153, Integrated Modular Avionics Hardware Elements.

DATES: Comments must be received on or before October 12, 2002.

ADDRESSES: Send all comments on the proposed AC to: Technical Programs & Continued Airworthiness Branch, AIR-120, Aircraft Engineering Division, Aircraft Certification Service,, Federal Aviation Administration, 800 Independence Avenue, SW., Room 835, Washington, DC 20591. Or deliver comments to: Federal Aviation Administration (FAA), Room 835, 800 Independence Avenue, SW., Washington, DC 20591. Comments must identify the AC file number.

FOR FURTHER INFORMATION CONTACT: Mr. John Lewis, Technical Programs & Continued Airworthiness Branch, AIR-120, Aircraft Engineering Division, Aircraft Certification Service, Federal Aviation Administration, 800 Independence Avenue, SW., Room 835, Washington, DC 20591; Telephone (202) 493-4841; Fax (202) 267-5340; e-mail address: John.Lewis@faa.gov.

SUPPLEMENTARY INFORMATION:

Comments Invited

You are invited to comment on the proposed AC by submitting written data, views, or arguments to the above-specified address. Comments received on the proposed AC may be examined, before and after the comment closing date, in Room 835, FAA Headquarters Building (FOB-10A), 800 Independence Avenue, SW., Washington, DC 20591, weekdays except Federal holidays, between 8:30 a.m. and 4:30 p.m. The Director, Aircraft Certification Service will consider all communications received on or before the closing date before issuing the final AC.

Background

Traditionally, avionics systems consisted of dedicated Line Replaceable Units (LRUs) which performed specific functions such as autoflight, flight management, and flight deck display. TSOs were written for these LRUs and their functions. Advancements in digital technology have created a trend toward higher levels of integration and modularity. In many modern integrated systems, software determines functionality, while hardware serves as a platform for input, output, data storage, and software execution. Since these basic attributes tend to be similar for various applications, efficiencies can be gained by using various types of generic airborne hardware elements to execute these functions.

This AC provides guidance on obtaining Federal Aviation Administration's (FAA) airworthiness approval to install Integrated Modular Avionics (IMA) systems that implement TSO-C153 authorized hardware elements. TSO-C153 refers to these hardware elements as “IMA hardware elements,” which includes modules, cabinets, or racks. A module may contain software to enable electronic part marking and/or future loading of functional software. These modules will not function without being installed in specific cabinets or racks. Module types may include data processing modules, power supply modules, communication and data bus modules, or others. Cabinets or racks are used to host IMA modules. These cabinets or racks may be simple mechanical enclosures, or they may incorporate active cooling elements, power supplies, communication interfaces, backplanes for data and power, or any combination of these features.

How To Obtain Copies

You may see and obtain a copy of the proposed AC through the FAA Web site at www.airweb.faa.gov by selecting “Draft Advisory Circulars,” or by inquiring at the office listed under “For Further Information Contact.” Copies of Document Nos. RTCA/DO-160D (Change 2), RTCA/DO-178B, and RTCA/DO-254 may be purchased form the RTCA Inc., 1828 L Street, NW., Suite 807, Washington, DC 20036 (Web site: http://www.rtca.org). You can obtain Aviation Recommended Practice number ARP-4754 from the Society of Automotive Engineers, Inc., 400 Commonwealth Drive, Warrendale, PA 15096-0001 (Web site: http://www.sae.org).

You may inspect the RTCA documents at the FAA office location listed under Addresses. However, RTCA documents are copyrighted and may not be reproduced without the written consent of RTCA, Inc.

Issued in Washington, DC, on September 16, 2002.
David W. Hempe,
Acting Manager, Aircraft Engineering Division, Aircraft Certification Service.

[FR Doc. 02-24130 Filed 9-20-02; 8:45 am]

BILLING CODE 4910-13-M